DEPARTMENT OF HOMELAND SECURITY

Coast Guard

33 CFR Part 165

[Docket No. USCG-2018-0584]

Safety Zones; Recurring Safety Zones in Captain of the Port Sault Sainte Marie Zone for Events Beginning in June 2018

AGENCY: Coast Guard, DHS.

ACTION: Notice of enforcement of regulation.

SUMMARY: The Coast Guard will enforce established safety zones for the Grand Marais Splash In, Jordan Valley Freedom Festival Fireworks, Festival of Fireworks Celebration Fireworks, and National Cherry Festival starting in June, 2018 to provide for the safety of life on navigable waterways. Our regulation for safety zones within the Captain of the Port Sault Sainte Marie Zone identifies the regulated area for these safety zones. During the enforcement periods, vessels must stay out of the established safety zone and may only enter with permission from the designated representative of the Captain of the Port Sault Sainte Marie.

DATES: The regulations in 33 CFR 165.918 will be enforced for the safety zones identified in the SUPPLEMENTARY INFORMATION section below for the dates and times specified.

FOR FURTHER INFORMATION CONTACT: If you have questions about this publication, call or email Chief Steven Durden, Waterways Management, Coast Guard Sector Sault Sainte Marie, U.S. Coast Guard; telephone 906-635-3222, email Steven.E.Durden@uscg.mil.

SUPPLEMENTARY INFORMATION: The Coast Guard will enforce the safety zones in 33 CFR 165.918 as per the time, dates, and locations in Table 1.

Table 1
[Datum NAD 1983]
Event | Location | Event date
(1) Grand Marais Splash In; Grand Marais, MI | All U.S. navigable waters within the southern portion of West Bay bound within the following coordinates: 46°40′22.08″ N, 085°59′0.12″ W, 46°40′22.08″ N, 085°58′22.08″ W, and 46°40′14.64″ N, 085°58′19.56″ W, with the West Bay shoreline forming the South and West boundaries of the zone | June 16, 2018; 1 p.m. to 5 p.m.
(2) Jordan Valley Freedom Festival Fireworks; East Jordan, MI | All U.S. navigable waters of Lake Charlevoix, near the City of East Jordan, within the arc of a circle with an approximate 700-foot radius from the fireworks launch site in position 45°09′18″ N, 085°07′48″ W | June 30, 2018; Rain date July 1, 2018; 9 p.m. to 11 p.m.
(3) Festivals of Fireworks Celebration Fireworks; St. Ignace, MI | All U.S. navigable waters of East Moran Bay within an approximate 1,000-foot radius from the fireworks launch site at the end of the Starline Mill Slip, centered in position: 45°52′24.62″ N, 084°43′18.13″ W | July 4 and Saturday nights June 30 to September 1, 2018; 30 minutes before sunset and 30 minutes after the end of the fireworks display.
(4) National Cherry Festival Airshow Safety Zone; Traverse City, MI | All U.S. navigable waters of the West Arm of Grand Traverse Bay within a box bounded by the following coordinates: 44°46′51.6″ N, 085°38′15.6″ W, 44°46′23.4″ N, 085°38′22.8″ W, 44°46′30.00″ N, 085°35′42.00″ W, and 44°46′2.34″ N, 085°35′50.4″ W | June 28, 2018: 11 a.m. to 5:30 p.m.; June 29, 2018: 12 noon to 6 p.m.; June 30, 2018: 12 noon to 6 p.m.; July 1, 2018: 12 noon to 6 p.m.

This action is being taken to provide for the safety of life on navigable waterways during the fireworks displays. The regulations for safety zones within the Captain of the Port Sault Sainte Marie Zone, § 165.918, apply for these fireworks displays.

In addition to this publication in the Federal Register, the Coast Guard plans to provide notification of this enforcement period via the Local Notice to Mariners, and marine information broadcasts.

Dated: June 13, 2018.
M.R. Broz,
Captain, U.S. Coast Guard, Captain of the Port Sault Sainte Marie.

[FR Doc. 2018-13069 Filed 6-18-18; 8:45 am]

BILLING CODE 9110-04-P